DEPARTMENT OF LABOR

Employment and Training Administration

[TA-W-82,287; TA-W-82,287A]

Hewlett Packard Company, AMS Call Center-Conway, CSS-Americas Support (AMSS) Division, Personal Systems Business Unit, Conway, Arkansas; Hewlett Packard Company, TS AMS GD FS Central on Site, Enterprise Services Organization Business Unit, Bentonville, Arkansas; Notice of Revised Determination on Reconsideration

In accordance with Section 223 of the Trade Act of 1974, as amended (“Act”), 19 U.S.C. 2273, the Department of Labor (Department) herein presents the results of an investigation regarding certification of eligibility to apply for worker adjustment assistance.

Workers of a firm may be eligible for worker adjustment assistance if they satisfy the criteria of subsection (a), (b) or (e) of Section 222 of the Act, 19 U.S.C. 2272(a), (b) and (e). For the Department to issue a certification for workers under Section 222(a) of the Act, 19 U.S.C. 2272(a), the following criteria must be met:

(1) The first criterion (set forth in Section 222(a)(1) of the Act, 19 U.S.C. § 2282(a)(1)) requires that a significant number or proportion of the workers in the workers' firm must have become totally or partially separated or be threatened with total or partial separation.

(2) The second criterion (set forth in Section 222(a)(2) of the Act, 19 U.S.C. § 2272(a)(2)) may be satisfied in one of two ways:

(A) Increased Imports Path:

(i) Sales or production, or both, at the workers' firm must have decreased absolutely, AND

(ii) (I) imports of articles or services like or directly competitive with articles or services produced or supplied by the workers' firm have increased, OR

(II)(aa) imports of articles like or directly competitive with articles into which the component part produced by the workers' firm was directly incorporated have increased; OR (II)(bb) imports of articles like or directly competitive with articles which are produced directly using the services supplied by the workers' firm have increased; OR (III) imports of articles directly incorporating component parts not produced in the U.S. that are like or directly competitive with the article into which the component part produced by the workers' firm was directly incorporated have increased.

(iii) the increase in imports described in clause (ii) contributed importantly to such workers' separation or threat of separation and to the decline in the sales or production of such firm.

(B) Shift in Production or Supply Path:

(i)(I) There has been a shift by the workers' firm to a foreign country in the production of articles or supply of services like or directly competitive with those produced/supplied by the workers' firm; OR

(II) there has been an acquisition from a foreign country by the workers' firm of articles/services that are like or directly competitive with those produced/supplied by the workers' firm; and

(ii) the shift described in clause (i)(I) or the acquisition of articles or services described in clause (i)(II) contributed importantly to such workers' separation or threat of separation.

For the Department to issue a secondary worker certification under Section 222(b) of the Act, 19 U.S.C. 2272(b), to workers of a Supplier or a Downstream Producer, the following criteria must be met:

(1) A significant number or proportion of the workers in the workers' firm or an appropriate subdivision of the firm have become totally or partially separated, or are threatened to become totally or partially separated;

(2) the workers' firm is a Supplier or Downstream Producer to a firm that employed a group of workers who received a certification of eligibility under Section 222(a) of the Act, 19 U.S.C. § 2272(a), and such supply or production is related to the article or service that was the basis for such certification; and

(3) either

(A) the workers' firm is a supplier and the component parts it supplied to the firm described in paragraph (2) accounted for at least 20 percent of the production or sales of the workers' firm; or

(B) a loss of business by the workers' firm with the firm described in paragraph (2) contributed importantly to the workers' separation or threat of separation.

Section 222(c) of the Act, 19 U.S.C. 2272(c), defines the terms “Supplier” and “Downstream Producer.”

Workers of a firm may also be considered eligible if they are publicly identified by name by the International Trade Commission (ITC) as a member of a domestic industry in an investigation resulting in a category of determination that is listed in Section 222(e) of the Act, 19 U.S.C. 2272(e).

The group eligibility requirements for workers of a firm under Section 222(e) of the Act, 19 U.S.C. 2272(e), can be satisfied if the following criteria are met:

(1) The workers' firm is publicly identified by name by the International Trade Commission as a member of a domestic industry in an investigation resulting in—

(A) an affirmative determination of serious injury or threat thereof under section 202(b)(1); (B) an affirmative determination of market disruption or threat thereof under section 421(b)(1); or (C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—(A) a summary of the report submitted to the President by the International Trade Commission under section 202(f)(1) with respect to the affirmative determination described in paragraph (1)(A) is published in the Federal Register under section 202(f)(3); or (B) notice of an affirmative determination described in subparagraph (1) is published in the Federal Register; and

(3) the workers have become totally or partially separated from the workers' firm within—(A) the 1-year period described in paragraph (2); or (B) notwithstanding section 223(b)(1), the 1-year period preceding the 1-year period described in paragraph (2).

The investigation was initiated in response to a petition filed on December 21, 2012 by a state workforce official on behalf of workers of Hewlett Packard Company, AMS Call Center-Conway, CSS-Americas Support (AMSS) Division, Personal Systems Business Unit, Conway, Arkansas (TA-W-82,287) and Hewlett Packard Company, TS AMS GD FS Central On Site, Enterprise Services Organization Business Unit, Bentonville, Arkansas (TA-W-82,287A) (hereafter referred to as “the Conway Facility” and “the Bentonville Facility,” respectively).

Workers at the Conway Facility are engaged in activities related to the supply of customer call center services. Workers at the Bentonville Facility are engaged in activities related to the supply of internal, on-site technical support services. The subject worker groups are separately identifiable from each other.

On January 25, 2013, the Department issued a Notice of Termination of Investigation applicable to workers and former workers of the Conway Facility. On July 9, 2013, the Department issued a Notice of Investigation.

TA-W-82,287 (Conway Facility)

Section 222(a)(1) has been met because a significant number or proportion of the workers at the Conway Facility has become totally or partially separated, or are threatened to become totally or partially separated.

Section 222(a)(2)(B) has been met with regards to workers at the Conway Facility because the workers' firm has shifted to a foreign country the supply of services like or directly competitive with those supplied by the subject worker group, which contributed importantly to worker group separations at Hewlett Packard Company, AMS Call Center-Conway, AMSS Division, Personal Systems Business Unit, Conway, Arkansas.

TA-W-82,287A (Bentonville Facility)

Section 222(a)(2)(A) has not been met with regards to workers at the Bentonville Facility because the workers' firm has not increased its imports of services like or directly competitive with the on-site technical support services supplied by the subject worker group.

Section 222(a)(2)(B) has not been met with regards to workers at the Bentonville Facility because the workers' firm has not shifted to a foreign country the supply of services like or directly competitive with the on-site technical support supplied by the subject workers.

With respect to Section 222(b)(2) of the Act, the investigation revealed that the Bentonville Facility is not a Supplier or Downstream Producer to a firm that employed a group of workers who received a certification of eligibility under Section 222(a) of the Act, 19 U.S.C. 2272(a).

Finally, the group eligibility requirements under Section 222(e) of the Act, have not been satisfied either because Criterion (1) has not been met since the workers' firm has not been publicly identified by name by the ITC as a member of a domestic industry in an investigation resulting in an affirmative finding of serious injury, market disruption, or material injury, or threat thereof.

Conclusion

After careful review of the facts obtained in the investigation, I determine that, with regards to TA-W-82,287A, the requirements of Section 222 of the Act, 19 U.S.C. 2272, have not been met and, therefore, deny the petition for group eligibility of Hewlett Packard Company, TS AMS GD FS Central On Site, Enterprise Services Organization Business Unit, Bentonville, Arkansas, to apply for adjustment assistance, in accordance with Section 223 of the Act, 19 U.S.C. 2273.

After careful review of the facts obtained in the investigation, I determine that, with regards to TA-W-82,287, workers of Hewlett Packard Company, AMS Call Center-Conway, CSS-Americas Support (AMSS) Division, Personal Systems Business Unit, Conway, Arkansas, who are engaged in activities related to the supply of customer support call center services, meet the worker group certification criteria under Section 222(a) of the Act, 19 U.S.C. 2272(a). In accordance with Section 223 of the Act, 19 U.S.C. 2273, I make the following certification:

All workers of Hewlett Packard Company, AMS Call Center-Conway, CSS-Americas Support (AMSS) Division, Personal Systems Business Unit, Conway, Arkansas, who became totally or partially separated from employment on or after December 20, 2011, through two years from the date of certification, and all workers in the group threatened with total or partial separation from employment on the date of certification through two years from the date of certification, are eligible to apply for adjustment assistance under Chapter 2 of Title II of the Trade Act of 1974, as amended.;

Signed in Washington, DC, this 4th day of September, 2013.
Del Min Amy Chen,
Certifying Officer, Office of Trade Adjustment Assistance.

[FR Doc. 2013-24192 Filed 10-2-13; 8:45 am]

BILLING CODE 4510-FN-P